DEPARTMENT OF TRANSPORTATION

Federal Railroad Administration

Petition for Waiver of Compliance

In accordance with Part 211 of Title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

S&S Shortline Railroad, LLC

[Waiver Petition Docket Number FRA-2010-0002]

The S&S Shortline Railroad, LLC (SSR) of Farmington, Utah, has petitioned for a permanent waiver of compliance for one locomotive (SSR 4501) and one caboose (SSR 1469) from the requirements of the Railroad Safety Glazing Standards, 49 CFR part 223, which require certified glazing in all windows. SSR is a small railroad in Northern Nevada. The railroad is located in a very remote and isolated portion of the state and has been free of vandalism and other incidents. Because of the remoteness and isolation, SSR does not anticipate any vandalism problems.

The subject locomotive, SSR 4501, is a 1940's era GE 45-ton 300-hp switching locomotive. The front, rear and side glazing does not conform to 49 CFR 223.11 glazing requirements; however, these windows are glazed with ¼″ laminated safety glass that is in good condition with no discoloration. The locomotive is primarily used as a backup locomotive. The subject caboose, SSR 1469, is an ex D&RGW steel caboose with cupola that is used primarily as a “shoving platform.” This caboose was acquired with the original glazing in good condition with no discoloration, but does not meet the 49 CFR 223.13 glazing requirements.

SSR states that they operate primarily in the Bureau of Land Management open range and agricultural environment. They do not experience any rock throwing or shooting at their equipment, and operate at a maximum speed of 10 mph. SSR states that the expenses of retrofitting the subject locomotive and caboose to comply with FRA glazing safety standards will impose an undue financial burden on their small railroad to protect from situations they do not encounter.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2010-0002) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC, on February 25, 2010.
Grady C. Cothen, Jr.,
Deputy Associate Administrator for Safety Standards and Program Development.

[FR Doc. 2010-4332 Filed 3-2-10; 8:45 am]

BILLING CODE 4910-06-P